CORPORATION FOR NATIONAL AND COMMUNITY SERVICE

Agency Information Collection Activities; Submission to the Office of Management and Budget for Review and Approval; Comment Request; Application Package for Senior Corps Grant Application (424-NSSC); Proposed Information Collection; Comment Request

AGENCY: Corporation for National and Community Service.

ACTION: Notice.

SUMMARY: The Corporation for National and Community Service (CNCS) has submitted a public information collection request (ICR) entitled Senior Corps Grant Application (424-NSSC) for review and approval in accordance with the Paperwork Reduction Act.

DATES: Comments may be submitted, identified by the title of the information collection activity, by October 17, 2018.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, [Erin McGrath], at [202-606-6850] or email to [emcgrath@cns.gov]. Individuals who use a telecommunications device for the deaf (TTY-TDD) may call 1-800-833-3722 between 8:00 a.m. and 8:00 p.m. Eastern Time, Monday through Friday.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 6, 2018 at Vol. 83 Page 31531. This comment period ended September 4, 2018. No public comments were received from this Notice.

Title of Collection: Senior Corps Grant Application (424-NSSC).

OMB Control Number: 3045-0035. Type of Review: Renewal.

Respondents/Affected Public: Organizations or State, Local or Tribal Governments.

Total Estimated Number of Annual Responses: 1,250.

Total Estimated Number of Annual Burden Hours: 17,820.

Abstract: This program helps to ensure that requested data can be provided in the desired format, reporting burden (time and financial resources) in minimized, collection instruments are clearly understood, and the impact of collection requirements on respondents can be properly addressed. CNCS seeks to renew the current information collection. CNCS is not proposing any changes in the current version of the Senior Corps Grant Application (424-NSSC). CNCS also seeks to continue using the current application until the revised application is approved by OMB. The current application is due to expire on September 30, 2018.

Dated: September 7, 2018.
Erin McGrath,
Deputy Director, Senior Corps.

[FR Doc. 2018-20149 Filed 9-14-18; 8:45 am]

BILLING CODE 6050-28-P